DEPARTMENT OF THE INTERIOR

Minerals Management Service

Agency Information Collection Activities: Submitted for Office of Management and Budget (OMB) Review; Comment Request

AGENCY: Minerals Management Service (MMS), Interior.

ACTION: Notice of extension of an information collection (1010-0149).

SUMMARY: To comply with the Paperwork Reduction Act of 1995 (PRA), we are notifying the public that we have submitted to OMB an information collection request (ICR) to renew approval of the paperwork requirements in the rulemaking for regulations under 30 CFR 250, subparts J, H, and I, Fixed and Floating Platforms and Structures. This notice also provides the public a second opportunity to comment on the paperwork burden of these regulatory requirements.

DATES: Submit written comments by March 24, 2005.

ADDRESSES: You may submit comments either by fax (202) 395-6566 or e-mail (OIRA_DOCKET@omb.eop.gov) directly to the Office of Information and Regulatory Affairs, OMB, Attention: Desk Officer for the Department of the Interior (1010-0149). Mail or hand carry a copy of your comments to the Department of the Interior, Minerals Management Service, Attention: Rules Processing Team, Mail Stop 4024, 381 Elden Street, Herndon, Virginia 20170-4817. Interested parties may submit a copy of their comments online to MMS, the address is: https://ocsconnect.mms.gov. From the Public Connect “Welcome” screen, you will be able to either search for Information Collection 1010-0149 or select it from the “Projects Open for Comment” menu.

FOR FURTHER INFORMATION CONTACT: Cheryl Blundon, Rules Processing Team, (703) 787-1600. You may also contact Cheryl Blundon to obtain a copy, at no cost, of the regulations that require the subject collection of information.

SUPPLEMENTARY INFORMATION:

Title: 30 CFR 250, subparts J, H, and I, Fixed and Floating Platforms and Structures.

OMB Control Number: 1010-0149.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 43 U.S.C. 1356 requires the issuance of “* * * regulations which require that any vessel, rig, platform, or other vehicle or structure * * * (2) which is used for activities pursuant to this subchapter, comply * * * with such minimum standards of design, construction, alteration, and repair as the Secretary * * * establishes * * *.” Section 43 U.S.C. 1332(6) also states, “operations in the [O]uter Continental Shelf should be conducted in a safe manner * * * to prevent or minimize the likelihood of * * * physical obstruction to other users of the water or subsoil and seabed, or other occurrences which may cause damage to the environment or to property, or endanger life or health.” These authorities and responsibilities are among those delegated to the MMS to ensure that operations in the OCS will meet statutory requirements; provide for safety and protection of the environment; and result in diligent exploration, development, and production of OCS leases.

On December 27, 2001, a Notice of Proposed Rulemaking (NPR) (66 FR 66851), provided the initial 60-day review and comment process. This notice is a renewal of the information requirements for the rulemaking and for what we expect to be in our final rulemaking.

The industry standards incorporated into our regulations through this rulemaking:

• Result in a complete rewrite and re-titling of our current regulations at 30 CFR part 250, subpart I, Platforms and Structures. The currently approved information collection for this subpart (1010-0058) will be superseded by this collection when final regulations take effect.

• Revise regulations at 30 CFR part 250, subpart H, Oil and Gas Production Safety Systems (1010-0059); and subpart J, Pipelines and Pipeline Rights-of-Way (1010-0050). When final regulations take effect, we will add the new requirements and hour burdens to the respective information collections currently approved for these subparts.

• Make changes to definitions, documents incorporated by reference, and other minor revisions to regulations at 30 CFR part 250, subpart A, General (1010-0114); and subpart B, Exploration and Development and Production Plans (1010-0049). However, the proposed changes do not add any new information collection requirements, nor affect those currently approved.

MMS will use the information collected and records maintained under subpart I to determine the structural integrity of all offshore platforms and floating production facilities and to ensure that such integrity will be maintained throughout the useful life of these structures. The information is necessary to determine that fixed and floating platforms and structures are sound and safe for their intended purpose and for the safety of personnel and pollution prevention. MMS will use the information collected under subparts H and J to ensure proper construction of production safety systems and pipelines.

Although the revised regulations would specifically cover floating production facilities as well as platforms, this is not a new category of information collection. MMS has always permitted these facilities on a case-by-case basis. Incorporating the new documents provides industry with specific standards by which we will hold them accountable in the design, fabrication, and installation of platforms and floating production facilities offshore. Making mandatory these now voluntary standards would dictate that respondents comply with the requirements in the incorporated documents. This includes certified verification agent (CVA) review for some areas that current regulations do not require, but the voluntary standards recommend. The revised regulations will increase the number of CVA nominations and reports associated with the facilities and require hazards analysis documentation for new floating production facilities.

We will protect information from respondents considered proprietary under the Freedom of Information Act (5 U.S.C. 552) and its implementing regulations (43 CFR part 2) and under regulations at 30 CFR 250.196, “Data and information to be made available to the public.” No items of a sensitive nature are collected. Responses are mandatory.

Frequency: On occasion, annual; and results of situations encountered.

Estimated Number and Description of Respondents: Approximately 136 Federal OCS oil and gas or sulphur lessees.

Estimated Reporting and Recordkeeping “Hour” Burden: The estimated annual “hour” burden for this information collection is a total of 48,500 hours. During the interim period between proposed and final rules, OMB approved the renewal of the information collection burden in the current subpart I regulations (1010-0058). After consultations with respondents, we revised the estimates of the hour burdens and the annual number of responses. We have incorporated those updated burden adjustments in this renewal. Therefore we are requesting an “adjustment” increase of 11,306 hours for 1010-0159. The following chart details the current individual components and estimated hour burdens. In calculating the burdens, we assumed that respondents perform certain requirements in the normal course of their activities. We consider these to be usual and customary and took that into account in estimating the burden.

Burden Breakdown
Proposed rule section(s) | Reporting or recordkeeping requirement | Hour burden per response/record | Annual number of responses | Annual burden hours
New Subpart H Requirements
800(b) | Submit CVA documentation under API RP 2RD. | 50 hours | 60 submissions | 3,000
803(b)(2)(iii) | Submit CVA documentation under API RP 17J. | 50 hours | 6 submissions | 300
Subpart I
900(a); 901(b); 902; 903; 905; 906; 907 | Submit application to install new platform or floating production facility or significant changes to approved applications, including use of alternative codes, rules, or standards; and Platform Verification Program plan for design, fabrication and installation of new, fixed, bottom-founded, pile-supported, or concrete-gravity platforms and new floating platforms. Consult as required with MMS and/or USCG. Re/Submit application for major modification(s) to any platform. | 30 hours | 331 applications | 9,930
900(a)(4) | Notify MMS within 24 hours of damage and emergency repairs and request approval of repairs. | 16 hours | 9 notices/requests | 144
900(a)(5) | Submit application for conversion of the use of an existing mobile offshore drilling unit. | 24 hours | 30 applications | 720
901(a)(6), (a)(7), (a)(8) | Submit CVA documentation under API RP 2RD, API RP 2SK, and API RP 2SM. | 100 hours | 6 submissions | 600
901(a)(10) | Submit hazards analysis documentation under API RP 14J. | 600 hours | 6 submissions | 3,600
904(c); 908 | Submit nomination and qualification statement for CVA. | 16 hours | 21 nominations | 336
910(c), (d) | Submit interim and final CVA reports and recommendations on design phase. | 200 hours | 31 reports | 6,200
911(d), (e), (f) | Submit interim and final CVA reports and recommendations on fabrication phase, including notice of fabrication procedure changes or design specification modifications | 100 hours | 6 submissions | 600
912(c), (d), (e) | Submit interim and final CVA reports and recommendations on installation phase. | 60 hours | 6 submissions | 360
914; 918 | Record original and relevant material test results of all primary structural materials; retain records during all stages of construction. Compile, retain, and make available to MMS for the functional life of platform, the as-built drawings, design assumptions/analyses, summary of nondestructive examination records, and inspection results | 100 hours | 136 lessees | 13,600
916 | Develop in-service inspection plan and submit annual (November 1 of each year) report on inspection of platforms or floating production facilities, including summary of testing results | GOM Region 45 hours POCS Region 80 hours | 130 lessees 6 operators | 5,850 480
900 thru 918 | General departure and alternative compliance requests not specifically covered elsewhere in Subpart I regulations | 8 hours | 10 requests | 80
New Subpart J Requirements
1002(b)(4); 1007(a)(4) | Submit CVA documentation under API RP 17J | 150 hours | 12 submissions | 1,800
1002(b)(5) | Submit CVA documentation under API RP 2RD | 75 hours | 12 submissions | 900
Total Hour Burden |  |  | 818 | 48,500

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on August 10, 2004, we published a Federal Register notice (69 FR 48518) announcing that we would submit this ICR to OMB for approval. The notice provided the required 60-day comment period. In addition, § 250.199 provides the OMB control number for the information collection requirements imposed by the 30 CFR 250 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by March 24, 2005.

Public Comment Policy: MMS's practice is to make comments, including names and addresses of respondents, available for public review during regular business hours. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Information Collection Clearance Officer: Arlene Bajusz, (202) 208-7744.

Dated: November 1, 2004.
E.P. Danenberger,
Chief, Engineering and Operations Division.

[FR Doc. 05-3240 Filed 2-18-05; 8:45 am]

BILLING CODE 4310-MR-P